DEPARTMENT OF HEALTH AND HUMAN SERVICES

Health Resources and Services Administration

Health Center Program

AGENCY: Health Resources and Services Administration, HHS.

ACTION: Notice of class deviation from competition requirements for the Health Center Program.

SUMMARY: In accordance with the Awarding Agency Grants Administration Manual (AAGAM) Chapter 2.04.103, the Bureau of Primary Health Care (BPHC) has been granted a class deviation from the exceptions to maximum competition requirements contained in the AAGAM Chapter 2.04.104A-5 to provide additional funding without competition to the 115 Health Center Program awardees whose budget period ends October 31, 2015, for up to 4 months. The extension allows BPHC to eliminate the November 1 budget period start date by redistributing these grants to established starting dates later in the fiscal year, thereby allowing awardees comparable opportunity to prepare and submit applications while allowing BPHC to remain compliant with internal process timelines.

SUPPLEMENTARY INFORMATION: Intended Recipient of the Award: Health Center Program awardees with a project period end date of October 31, 2015.

Amount of Non-Competitive Awards: $44,481,501.

Period of Supplemental Funding: November 1, 2015, to a maximum of February 28, 2016.

CFDA Number: 93.224.

Authority: Section 330 of the Public Health Service Act, as amended (42 U.S.C. 254b, as amended).

Justification: Targeting the nation's neediest populations and geographic areas, the Health Center Program currently funds nearly 1,300 health centers that operate approximately 9,000 service delivery sites in every state, the District of Columbia, Puerto Rico, the Virgin Islands, and the Pacific Basin. In 2013, more than 21 million patients, including medically underserved and uninsured patients, received comprehensive, culturally competent, quality primary health care services through the Health Center Program awardees. Due to the vast size of the Health Center Program, the active grants are distributed across eight budget periods that begin on the first of the month, November through June.

BPHC uses the information awardees report annually via the Uniform Data System (UDS) to objectively determine the patient and service area requirements that new and continuing applications must address. The requirements are available for applicant use in June. The deviation allows BPHC to redistribute the awardees with November 1 start dates to budget period start dates later in the fiscal year, thus allowing these awardees comparable opportunity to prepare and submit applications while allowing BPHC to remain compliant with internal process timelines. By September 15, 2015, $44,481,501 will be awarded to these 115 awardees to continue approved activities for up to 4 months. Awardees will report progress and financial obligations made during their budget period extension through routine reports.

Table 1—Recipient Awardees
Grant No. | Name | State | New budget period start | Award amount
H80CS00001 | CITY OF SPRINGFIELD | MA | February | $333,353
H80CS00002 | CITY OF MANCHESTER | NH | March | 224,147
H80CS00003 | COMMUNITY HEALTHLINK, INC | MA | March | 316,608
H80CS00006 | BOSTON HEALTH CARE FOR THE HOMELESS PROGRAM, INC., THE | MA | January | 505,654
H80CS00007 | CARE FOR THE HOMELESS | NY | January | 734,361
H80CS00008 | MUNICIPALITY OF SAN JUAN | PR | March | 226,508
H80CS00009 | CITY OF NEWARK, NEW JERSEY, INC | NJ | January | 411,022
H80CS00011 | MONTEFIORE MEDICAL CENTER | NY | January | 401,335
H80CS00013 | UNDER 21, INC | NY | March | 209,692
H80CS00016 | PUBLIC HEALTH MANAGEMENT CORPORATION | PA | January | 710,886
H80CS00017 | HEALTH CARE FOR THE HOMELESS, INC | MD | January | 606,970
H80CS00018 | DAILY PLANET, INC | VA | February | 490,501
H80CS00019 | NORTH BROWARD HOSPITAL DISTRICT | FL | February | 437,971
H80CS00020 | BIRMINGHAM HEALTH CARE, INC | AL | January | 713,355
H80CS00022 | SAINT JOSEPHS MERCY CARE SVCS | GA | January | 614,459
H80CS00023 | COUNTY OF HAMILTON | TN | March | 364,024
H80CS00024 | COUNTY OF PINELLAS | FL | March | 193,752
H80CS00026 | CAMILLUS HEALTH CONCERN, INC | FL | January | 515,685
H80CS00027 | GOOD SAMARITAN HOSPITAL | OH | February | 276,112
H80CS00028 | HENNEPIN COUNTY | MN | February | 354,321
H80CS00029 | CARE ALLIANCE | OH | January | 468,025
H80CS00030 | COUNTY OF INGHAM | MI | February | 304,746
H80CS00031 | TRINITY HEALTH CORPORATION | MI | March | 274,685
H80CS00033 | DETROIT HEALTH CARE FOR THE HOMELESS | MI | January | 475,273
H80CS00034 | OUTREACH COMMUNITY HEALTH CENTERS, INC | WI | February | 481,078
H80CS00035 | NEW COMMUNITY CLINIC, INC., LTD | WI | February | 332,949
H80CS00036 | ALBUQUERQUE HEALTH CARE FOR THE HOMELESS, INC | NM | January | 350,108
H80CS00037 | CITY OF NEW ORLEANS | LA | February | 451,993
H80CS00038 | HARRIS COUNTY HOSPITAL DISTRICT | TX | January | 542,606
H80CS00039 | DALLAS COUNTY HOSPITAL DISTRICT | TX | January | 406,306
H80CS00040 | COLORADO COALITION FOR THE HOMELESS, THE | CO | January | 1,141,583
H80CS00042 | COMMUNITY ACTION OF LARAMIE COUNTY, INC | WY | March | 149,726
H80CS00043 | WASATCH HOMELESS HEALTH CARE, INC | UT | February | 462,646
H80CS00044 | COUNTY OF MARICOPA | AZ | January | 459,405
H80CS00045 | COUNTY OF SACRAMENTO | CA | March | 346,132
H80CS00046 | COUNTY OF SANTA BARBARA | CA | March | 345,341
H80CS00047 | COUNTY OF ALAMEDA | CA | January | 486,082
H80CS00048 | COUNTY OF SANTA CRUZ | CA | February | 404,475
H80CS00049 | SAN FRANCISCO COMMUNITY CLINIC CONSORTIUM | CA | January | 860,109
H80CS00050 | COUNTY OF CONTRA COSTA | CA | February | 460,558
H80CS00051 | COUNTY OF SAN MATEO | CA | February | 461,544
H80CS00052 | CHILDREN'S HOSPITAL & RESEARCH CENTER AT OAKLAND | CA | February | 369,872
H80CS00053 | WAIKIKI HEALTH CENTER | HI | February | 278,223
H80CS00054 | METROPOLITAN DEVELOPMENT COUNCIL, THE | WA | March | 348,334
H80CS00055 | WHITE BIRD CLINIC | OR | March | 187,567
H80CS00056 | COUNTY OF KING | WA | January | 537,592
H80CS00239 | FAMILIES FIRST OF THE GREATER SEA COAST, INC | NH | March | 172,837
H80CS00240 | HEALTHCARE CENTER FOR HOMELESS, INC | FL | January | 381,103
H80CS00243 | OUTSIDE IN | OR | January | 396,812
H80CS00247 | COUNTY OF VENTURA | CA | March | 261,600
H80CS00268 | FLOATING HOSPITAL, INC., THE | NY | January | 470,166
H80CS00271 | DUFFY HEALTH CENTER, INC | MA | March | 366,149
H80CS00300 | HEALTH CARE FOR THE HOMELESS HOUSTON | TX | March | 323,507
H80CS00305 | I.M. SULZBACHER CENTER FOR THE HOMELESS | FL | January | 362,224
H80CS00306 | PROJECT RENEWAL, INC | NY | January | 388,882
H80CS00308 | NORTHWEST COMMUNITY HEALTH CARE | RI | February | 352,019
H80CS00309 | CHEROKEE HEALTH SYSTEMS | TN | January | 934,368
H80CS00319 | COMMUNITY HEALTH ASSOCIATION OF SPOKANE | WA | January | 791,398
H80CS00370 | SOUTHEAST COMMUNITY HEALTH SYSTEMS | LA | January | 537,890
H80CS00836 | SOUTH CENTRAL PRIMARY CARE CENTER | GA | March | 251,790
H80CS00841 | COMMUNITY HEALTH CENTER OF SOUTHEAST KANSAS, INC | KS | January | 499,042
H80CS00842 | COUNTY OF YAVAPAI | AZ | February | 275,746
H80CS00843 | RITCHIE COUNTY PRIMARY CARE ASSOC., INC | WV | March | 281,738
H80CS00844 | CLINICA MSR OSCAR A ROMERO | CA | January | 422,661
H80CS00845 | ST. GEORGE MEDICAL CLINIC, INC | WV | March | 207,904
H80CS00846 | FLORIDA DEPARTMENT OF HEALTH | FL | March | 290,713
H80CS00847 | NORTHLAND HEALTH PARTNERS COMMUNITY | ND | February | 380,094
H80CS00848 | NORTHEASTERN OKLAHOMA COMMUNITY HEALTH CENTERS, INC | OK | January | 369,969
H80CS01130 | NORTON SOUND HEALTH CORPORATION | AK | January | 382,757
H80CS02323 | COMMUNITY ACTION CORPORATION OF SOUTH TEXAS | TX | January | 344,237
H80CS02325 | INDIAN HEALTH CENTER OF SANTA CLARA VALLEY | CA | March | 349,324
H80CS02326 | TRI-CITY HEALTH CENTER | CA | February | 475,195
H80CS02327 | ASIAN HUMAN SERVICES FAMILY HEALTH CENTER | IL | February | 416,022
H80CS02329 | EAST BAY COMMUNITY ACTION PROGRAM | RI | February | 306,700
H80CS02330 | COUNTY OF NATRONA | WY | March | 208,495
H80CS02331 | DIRNE HEALTH CENTERS, INC | ID | January | 360,421
H80CS02445 | JOHNSON HEALTH CENTER | VA | January | 383,590
H80CS02446 | ALEXANDRIA NEIGHBORHOOD HEALTH SERVICE, INC | VA | January | 417,043
H80CS02448 | SEBASTICOOK FAMILY DOCTORS | ME | February | 323,260
H80CS02449 | MOLOKAI OHANA HEALTH CARE, INC | HI | March | 298,937
H80CS02450 | HEALTH ACCESS NETWORK, INC | ME | January | 349,836
H80CS02451 | LONE STAR COMMUNITY HEALTH CENTER, INC | TX | February | 420,764
H80CS02452 | EL CENTRO DEL CORAZON | TX | February | 422,756
H80CS02454 | FAMILY HEALTH CENTER OF SOUTHERN OKLAHOMA | OK | February | 392,320
H80CS02456 | WINDROSE HEALTH NETWORK, INC | IN | March | 355,898
H80CS02457 | HEARTLAND COMMUNITY HEALTH CLINIC | IL | February | 428,244
H80CS02458 | NORTHSHORE HEALTH CENTERS, INC | IN | January | 428,229
H80CS02520 | NORTHEAST FLORIDA | FL | March | 336,515
H80CS07772 | KENTUCKY MOUNTAIN HEALTH ALLIANCE, INC | KY | March | 298,382
H80CS07897 | HEART OF OHIO FAMILY HEALTH CENTERS | OH | February | 343,299
H80CS08730 | WESTSIDE FAMILY HEALTH CENTER | CA | February | 283,751
H80CS08735 | CHINATOWN SERVICE CENTER | CA | March | 320,601
H80CS08737 | ROANOKE CHOWAN COMMUNITY HEALTH CENTER, INC | NC | March | 350,060
H80CS08738 | COVENANT COMMUNITY CARE, INC | MI | January | 394,653
H80CS08739 | AVENAL COMMUNITY HEALTH CENTER | CA | January | 400,628
H80CS08753 | BUTLER COUNTY COMMUNITY HEALTH CONSORTIUM, INC | OH | March | 345,654
H80CS08760 | WAYNE MEMORIAL COMMUNITY HEALTH CENTERS | PA | March | 320,196
H80CS08764 | MOREHOUSE COMMUNITY MEDICAL CENTERS, INC | LA | February | 390,961
H80CS08765 | CRESCENT COMMUNITY HEALTH CENTER | IA | March | 319,712
H80CS08766 | WEST CECIL HEALTH CENTER, INC | MD | March | 216,646
H80CS08767 | UNIVERSITY COMMUNITY HEALTH SERVICES, INC | TN | March | 356,163
H80CS08769 | PINES HEALTH SERVICES | ME | March | 351,074
H80CS08770 | HEALTH CENTER OF SOUTHEAST TEXAS | TX | March | 333,315
H80CS08771 | WATERFALL CLINIC, INC | OR | March | 317,585
H80CS08773 | INTERFAITH COMMUNITY HEALTH CENTER | WA | March | 341,584
H80CS08775 | LANA'I COMMUNITY HEALTH CENTER | HI | March | 208,807
H80CS09032 | PROJECT HOPE | NJ | March | 258,740
H80CS11274 | UNITY HOSPITAL OF ROCHESTER, THE | NY | March | 316,732
H80CS26510 | SOUTHWEST COLORADO MENTAL HEALTH CENTER, INC | CO | March | 233,306
H80CS26511 | UPPER GREAT LAKES FAMILY HEALTH CENTER | MI | February | 443,580
H80CS26512 | PREFERRED FAMILY HEALTHCARE, INC | MO | March | 233,306
H80CS26513 | FIRSTMED HEALTH AND WELLNESS CENTER | NV | March | 237,906
H80CS26514 | TRIAD ADULT AND PEDIATRIC MEDICINE, INC | NC | March | 247,777
H80CS26515 | PAIUTE INDIAN TRIBE OF UTAH, THE | UT | March | 233,306
H80CS26516 | FREE CLINIC OF THE NEW RIVER VALLEY, INC | VA | March | 236,948

FOR FURTHER INFORMATION CONTACT: Olivia Shockey, Expansion Division Director, Office of Policy and Program Development, Bureau of Primary Health Care, Health Resources and Services Administration at 301-443-9282 or at oshockey@hrsa.gov.

Dated: June 5, 2015.
James Macrae,
Acting Administrator.

[FR Doc. 2015-14236 Filed 6-10-15; 8:45 am]

BILLING CODE 4165-15-P